DEPARTMENT OF STATE

[Public Notice 8212]

Department of State Performance Review Board Members

In accordance with section 4314(c)(4) of 5 United States Code, the Department of State has appointed the following individuals to the Department of State Performance Review Board for Senior Executive Service members:

Dawn McCall, Chairperson, Coordinator, Office of International Information Programs, Department of State;

Gerard White, Deputy Assistant Secretary, Bureau of Conflict and Stabilization Operations, Department of State;

Bathsheba Crocker, Principal Deputy Director, Office of Policy Planning, Department of State.

Dated: February 25, 2013.
Linda Thomas-Greenfield,
Director General of the Foreign Service and Director of Human Resources, Department of State.

[FR Doc. 2013-04913 Filed 3-1-13; 8:45 am]

BILLING CODE 4710-15-P